ENVIRONMENTAL PROTECTION AGENCY

[EPA-HQ-OAR-2004-0081; FRL-8700-9]

Agency Information Collection Activities; Submission to OMB for Review and Approval; Comment Request; Prevention of Significant Deterioration and Non-Attainment Area New Source Review (Renewal), EPA ICR Number 1230.23, OMB Control Number 2060-0003

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. This is a request to renew an existing approved collection. This ICR is scheduled to expire on October 31, 2008. Under OMB regulations, the Agency may continue to conduct or sponsor the collection of information while this submission is pending at OMB. This ICR describes the nature of the information collection and its estimated burden and cost.

DATES: Additional comments may be submitted on or before September 4, 2008.

ADDRESSES: Submit your comments, referencing docket ID number EPA-HQ-OAR-2004-0081, to (1) EPA on-line at www.regulations.gov, or by mail to: U.S. Environmental Protection Agency, EPA Docket Center, Air and Radiation Docket and Information Center, 1200 Pennsylvania Avenue, NW., Mail Code 2822T, Washington, DC 20460, and (2) OMB at: Office of Information and Regulatory Affairs, Office of Management and Budget (OMB), Attention: Desk Officer for EPA, 725 17th Street, NW., Washington, DC 20503.

FOR FURTHER INFORMATION CONTACT: Carrie Wheeler, Office of Air Quality Planning and Standards, Air Quality Policy Division (C504-05), U.S. Environmental Protection Agency, Research Triangle Park, NC 27711; telephone number: (919) 541-9771; fax number: (919) 541-5509; e-mail address: wheeler.carrie@epa.gov.

SUPPLEMENTARY INFORMATION: EPA has submitted the following ICR to OMB for review and approval according to the procedures prescribed in 5 CFR 1320.12. On November 30, 2007 (72 FR 67720), EPA sought comments on this ICR pursuant to 5 CFR 1320.8(d). EPA received no comments. EPA completed an active consultation with the National Association of Clean Air Agencies (NACAA) in January, 2008. Three comments were received and EPA has addressed the comments.

EPA has established a public docket for this ICR under Docket ID No. EPA-HQ-OAR-2004-0081, which is available for online viewing at www.regulations.gov, or in-person viewing at the Air and Radiation Docket and Information Center in the EPA Docket Center (EPA/DC), EPA West, Room 3334, 1301 Constitution Avenue, NW., Washington, DC. The EPA Docket Center Public Reading Room is open from 8:30 a.m. to 4:30 p.m., Monday through Friday, excluding legal holidays. The telephone number for the Reading Room is (202) 566-1744, and the telephone number for the Air Docket is (202) 566-1742.

Use EPA's electronic docket and comment system at www.regulations.gov to submit or view public comments, access the index listing of the contents of the public docket, and to access those documents in the public docket that are available electronically. Once in the system, select “search,” then key in the docket ID number identified above. Please note that EPA's policy is that public comments, whether submitted electronically or in paper, will be made available for public viewing in www.regulations.gov as EPA receives them and without change, unless the comment contains copyrighted material, confidential business information (CBI), or other information whose public disclosure is restricted by statute. For further information about the electronic docket, go to www.regulations.gov.

Title: Prevention of Significant Deterioration and Non-Attainment Area New Source Review (Renewal).

ICR Numbers: EPA ICR No. 1230.23, OMB Control No. 2060-0003.

ICR Status: This ICR is scheduled to expire on October 31, 2008. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR part 9, are displayed by publication in the Federal Register or by other appropriate means, such as on the related collection instrument or form, if applicable. The display of OMB control numbers in certain EPA regulations is consolidated in 40 CFR part 9.

Abstract: Part C of the Clean Air Act (Act)—“Prevention of Significant Deterioration,” and Part D—“Plan Requirements for Nonattainment Areas,” require all States to adopt preconstruction review programs for new or modified stationary sources of air pollution. In addition, the provisions of Section 110 of the Act include a requirement for States to have a preconstruction review program to manage the emissions from the construction and modification of any stationary source of air pollution to assure that the National Ambient Air Quality Standards (NAAQS) are achieved and maintained. Implementing regulations for these three programs are promulgated at 40 CFR 51.160 through 51.166 to Part 51 and 40 CFR 52.21 and 52.24.

In order to receive a construction permit for a major new source or major modification, the applicant must conduct the necessary research, perform the appropriate analyses and prepare the permit application with documentation to demonstrate that their project meets all applicable statutory and regulatory NSR requirements. Specific activities and requirements are listed and described in the Supporting Statement for the ICR.

Reviewing authorities review the permit application, provide for public review of the proposed project, and issue the permit based on its consideration of all technical factors and public input. The EPA, more broadly, reviews a fraction of the total applications and audits the state and local programs for their effectiveness. Consequently, information prepared and submitted by the source is essential for the source to receive a permit, and for Federal, state and local environmental agencies to adequately review the permit application and thereby properly administer and manage the NSR programs.

Burden Statement: The annual public reporting and recordkeeping burden for this collection of information is estimated to be broken down as follows:

Type of permit action | Major PSD | Major Part D | Minor
Number of sources | 282 | 519 | 74,591
Burden Hours per Response:
Industry | 866 | 642 | 40
Permitting Agencies | 301 | 127 | 30

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Industrial plants, state and local permitting agencies.

Estimated Number of Respondents: 150,821.

Frequency of Response: 1 per respondent.

Estimated Total Annual Hour Burden: 5,951,068 hours.

Estimated Total Annual Cost: $486,452,000, which includes $475,056,000 annual labor costs and $11,396,000 annual capital/startup and O&M costs.

Changes in the Estimates: There is an increase of 44,960 in the total estimated burden currently identified in the OMB Inventory of Approved ICR Burdens. The number of respondents has increased by 51 due to the decision by the U.S. Court of Appeals for the DC. Circuit to vacate the Clean Units and Pollution Control Project Exclusion provisions of the NSR program. In addition, the burden per permit for Part C major NSR permit applications increased based on active consultation with NACAA, conducted in January 2008.

Dated: July 29, 2008.
Sara Hisel-McCoy,
Director, Collections Strategies Division.

[FR Doc. E8-17927 Filed 8-4-08; 8:45 am]

BILLING CODE 6560-50-P